DEPARTMENT OF AGRICULTURE

Food Safety and Inspection Service

[Docket No. 04-047N]

Codex Alimentarius Commission: Twenty-seventh Session of the Codex Committee on Fish and Fishery Products

AGENCY: Food Safety and Inspection Service, USDA.

ACTION: Notice of public meeting, request for comments.

SUMMARY: The Office of the Under Secretary for Food Safety, United States Department of Agriculture (USDA), and the Food and Drug Administration (FDA), United States Department of Health and Human Services, are sponsoring a public meeting on February 9, 2005, to provide information and receive public comments on all agenda items that will be discussed at the Twenty-seventh Session of the Codex Committee on Fish and Fishery Products (CCFFP) of the Codex Alimentarius Commission (Codex). The 27th Session of the CCFFP will be held at the Arabella Sheraton Grand, 1 Lower Long Street, Cape Town, South Africa, February 28-March 4, 2005. The Under Secretary and FDA recognize the importance of providing interested parties the opportunity to obtain background information on the agenda items that will be discussed at this forthcoming session of the CCFFP.

DATES: The public meeting is scheduled for Wednesday, February 9, 2005 from 9 a.m. to 12 noon.

ADDRESSES: The public meeting will be held in Room 2A-047, Harvey W. Wiley Federal Building, 5100 Paint Branch Parkway, College Park, MD. Documents related to the 27th Session of the CCFFP will be accessible via the World Wide Web at the following address: http://www.codexalimentarius.net/current.asp.

FSIS invites interested persons to submit comments on this notice. Comments may be submitted by any of the following methods:

• Mail, including floppy disks or CD-ROMs, and hand- or courier-delivered items: Send to the FSIS Docket Clerk, U.S. Department of Agriculture, Food Safety and Inspection Service, 300 12th Street, SW., Room 102, Cotton Annex, Washington, DC 20250-3700. All Comments received must include the Agency name and docket number 04-047N.

All comments submitted in response to this notice, will be available for public inspection in the FSIS Docket Room at the address listed above between 8:30 a.m. and 4:30 p.m., Monday through Friday. The comments also will be posted on the Agency's Web site at http://www.fsis.usda.gov/regulations/2005 Notices Index/.

For Further Information About the 33rd Session of the CCFFP Contact: U.S. Delegate, Mr. Philip Spiller, Director, Office of Seafood, Center for Food Safety and Applied Nutrition, Food and Drug Administration, 5100 Paint Branch Parkway, College Park, MD 20740-3835, Phone: (301) 436-2300, Fax: (301) 436-2599, E-mail: PCS@cfsan.fda.gov.

For Further Information About the Public Meeting Contact: Syed Amjad Ali, International Issues Analyst, U.S. Codex Office, FSIS, Room 4861, South Building, 1400 Independence Avenue SW., Washington, DC 20250-3700, Phone: (202) 205-7760, Fax: (202) 720-3157. Persons requiring a sign language interpreter or other special accommodations should notify Ms. Melissa Ellwanger, at telephone (301) 436-1401 or Fax (301) 436-2601.

SUPPLEMENTARY INFORMATION:

Background

The Codex Alimentarius Commission (Codex) was established in 1962 by two United Nations organizations, the Food and Agriculture Organization (FAO) and the World Health Organization (WHO). Codex is the major international standard-setting organization for protecting the health and economic interests of consumers and ensuring fair practices in international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on Fish and Fishery Products was established to elaborate codes and standards for fish and fishery products. The Committee is chaired by Norway.

Issues To Be Discussed at the Public Meeting

The following items on the agenda for the 27th Session of the CCFFP will be discussed during the public meeting:

1. Matters arising from the Codex Alimentarius Commission and other Codex committees.

2. Proposed Draft Amendment to the Standard for Salted Fish and Dried Salted Fish.

3. Proposed Draft Standard for Scallops Adductor Muscle Meat.

4. Proposed Draft Code of Practice for Fish and Fishery Products (Sections 2 (Definitions), 6 (Aquaculture Production), 7 (Live and [Raw] Bivalve Molluscs), 11 (Processing of Salted Fish), 12 (Processing of Smoked Fish), 13 (Processing of Lobsters and Crabs), 14 (Processing of Shrimps and Prawns), 15 (Processing of Cephalopods), 17 (Transport), and 18 (Retail).

5. Proposed Draft Standard for Live and Raw Bivalve Molluscs.

6. Proposed Draft Standard for Smoked Fish.

7. Proposed Draft Standard for Granular Sturgeon Caviar.

8. Revision of the Procedure for Inclusion of New Species.

9. Discussion paper on new work to amend the Proposed Draft Code of Practice for Fish and Fishery Products, Section 10 (Processing of Quick Frozen Fish Products) to include molluscan shellfish and shrimp.

Each issue listed will be fully described in documents distributed, or to be distributed, by the Norwegian Secretariat to the Meeting. Members of the public may access copies of these documents (see ADDRESSES).

Public Meeting

At the February 9, 2005 public meeting, these agenda items will be described, and discussed, and attendees will have the opportunity to pose questions and offer comments. Written comments may be offered at the meeting or sent to the U.S. Delegate, for the 27th Session of the CCFFP, Philip Spiller (See ADDRESSES). Written comments should state that they relate to activities of the 27th Session of the CCFFP.

Additional Public Information

Public awareness of all segments of rulemaking and policy development is important. Consequently, in an effort to ensure that the public and in particular minorities, women, and persons with disabilities are aware of this notice, FSIS will announce it on-line through the FSIS Web page located at http://www.fsis.usda.gov/regulations/2005 Notices Index/.

FSIS also will make copies of this Federal Register publication available through the FSIS Constituent Update, which is used to provide information regarding FSIS policies, procedures, regulations, Federal Register notices, FSIS public meeting, recalls, and other types of information that could affect or would be of interest to our constituents and stakeholders. The update is communicated via Listserv, a free e-mail subscription service consisting of industry, trade, and farm groups, consumer interest groups, allied health professionals, scientific professionals, and other individuals who have requested to be included. The update is available on the FSIS Web page. Through Listserv and the Web page, FSIS is able to provide information to a much broader, more diverse audience.

Done at Washington, DC, on: January 25, 2005.
F. Edward Scarbrough,
U.S. Manager for Codex Alimentarius.

[FR Doc. 05-1702 Filed 1-28-05; 8:45 am]

BILLING CODE 3410-DM-P